SECURITIES AND EXCHANGE COMMISSION

Proposed Collections; Comment Request

Upon Written Request, Copies Available From: Securities and Exchange Commission, Office of Filings and Information Services, Washington, DC 20549.

Extensions:

Form F-7, OMB Control No. 3235-0383, SEC File No. 270-331.Form F-8, OMB Control No. 3235-0378, SEC File No. 270-332.

Notice is hereby given that pursuant to the Paperwork Reduction Act of 1995 (44 U.S.C. 3501 et seq.) the Securities and Exchange Commission (“Commission”) is soliciting comments on the collections of information summarized below. The Commission plans to submit these existing collections of information to the Office of Management Budget for approval.

Form F-7 (17 CFR 239.37) may be used to register under the Securities Act of 1933 (15 U.S.C. 77a et seq.) securities offered for cash upon exercise of rights that are granted to its existing shareholders of the registrant to purchase or subscribe such securities. The information collected is intended to ensure that the information required to be filed by the Commission permits verification of compliance with securities law requirements and assures the public availability of such information. Form F-7 takes approximately 4 hours per response to prepare and is filed by 5 respondents. We estimate that 25% of 4 hours per response (one hour) is prepared by the company for a total annual reporting burden of 5 hours (one hour per response × 5 responses). The remaining 75% of the burden hours is attributed to outside cost.

Form F-8 (17 CFR 239.38) may be used to register under the Securities Act of 1933 (15 U.S.C. 77a et seq.) securities of certain Canadian issuers to be used in exchange offers or business combinations. The information collected is intended to ensure that the information required to be filed by the Commission permits verification of compliance with securities law requirements and assures the public availability of such information. Form F-8 takes approximately one hour per response to prepare and is filed by 10 respondents. We estimate that 25% of one hour per response (15 minutes) is prepared by the company for a total annual reporting burden of 3 hours (15 minutes/60 minutes per response × 10 responses = 2.5 hours rounded to 3 hours). The remaining 75% of the burden hours is attributed to outside cost.

Written comments are invited on: (a) Whether these proposed collections of information are necessary for the proper performance of the functions of the agency, including whether the information will have practical utility; (b) the accuracy of the agency's estimate of the burden of the collection of information collection information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, c/o Shirley Martinson 6432 General Green Way, Alexandria, Virginia 22312; or send an e-mail to: PRA_Mailbox@sec.gov.

Dated: September 13, 2006.
Jill M. Peterson,
Assistant Secretary.

[FR Doc. 06-7994 Filed 9-21-06; 8:45 am]

BILLING CODE 8010-01-P